DEPARTMENT OF TRANSPORTATION

Office of the Secretary

[Docket No. DOT-OST-2022-0080]

Notice To Solicit Members for the Transforming Transportation Advisory Committee (TTAC)

AGENCY: Office of the Secretary (OST), Department of Transportation (DOT).

ACTION: Notice to solicit members for the Transforming Transportation Advisory Committee (TTAC).

SUMMARY: The Office of the Secretary of Transportation (OST) is publishing this notice to solicit individuals who wish to be considered as members within the Transforming Transportation Advisory Committee (TTAC).

DATES: Nominations for Committee members must be received on or before August 19, 2022.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

FOR FURTHER INFORMATION CONTACT: TTAC Designated Federal Officer, c/o Juli Huynh—Director, Office of Policy Coordination and Development, Office of the Secretary, NETTCouncil@dot.gov or (202) 366-2278.

SUPPLEMENTARY INFORMATION: The U.S. Secretary of Transportation (Secretary) establishes TTAC as a Federal Advisory Committee in accordance with the Federal Advisory Committee Act (Pub. L. 92-463, 5 U.S.C. App. 2) to provide information, advice, and recommendations to the Secretary on matters relating to transportation innovations. TTAC is tasked with advice and recommendations to the Secretary about needs, objectives, plans, and approaches for transportation innovations. This notice seeks to solicit individuals who wish to be considered as members within the TTAC.

This notice is provided in accordance with the Federal Advisory Committee Act. (FACA). Please see the TTAC website for additional information at https://www.transportation.gov/ttac.

Description of Duties: TTAC will undertake only tasks assigned to it by the Secretary of Transportation or designee and provide direct, first-hand information, advice, and recommendations by meeting and exchanging ideas on the tasks assigned. In addition, TTAC will respond to ad-hoc informational requests from OST.

Membership: TTAC comprises members appointed by the Secretary of Transportation upon recommendation by OST. All TTAC members serve at the pleasure of the Secretary of Transportation. TTAC will have no more than 25 members and comprise safety advocates, experts from academia/universities, representatives of organized labor, technical experts (e.g., automation, data, privacy, cybersecurity), and industry representatives. The designated members are intended to provide balanced representation in terms of knowledge, expertise, and points of view of interested parties relative to TTAC's tasks. Each voting member holds appropriate authority within the entity with which they are affiliated to speak for it, and the community or industry represented. In addition, members provide a balance in points of view regarding the functions and tasks to be performed by TTAC. Members are appointed for a 2-year term.

Nomination Process: The Secretary is seeking individual nominations for membership to the TTAC. Any interested person may nominate one or more qualified individuals for membership on TTAC. Self-nominations are also accepted. Nominations must include, in full, the following materials to be considered for membership. Failure to submit the required information may disqualify a candidate from the review process.

a. A biography, including professional and academic credentials.

b. A résumé or curriculum vitae, which must include relevant job experience, qualifications, as well as contact information (full legal name, email, telephone, and mailing address).

c. A one-page statement describing how the candidate will benefit TTAC, considering the candidate's unique perspective that will advance the conversation. This statement must also identify the stakeholder group that the candidate would represent.

d. State the level of expertise in the stakeholder group that is being represented as well as the size of the constituency being represented.

e. If applicable, state any previous experience on a Federal Advisory committee.

Evaluations will be based on the materials submitted.

The Secretary will make every effort to appoint members to serve on TTAC from among those candidates determined to have the technical expertise required to meet Departmental needs, and in a manner to ensure an appropriate balance of membership. The selection of committee members will be consistent with achieving the greatest impact, scope, and credibility among diverse stakeholders. The diversity in such membership includes representatives of organizations directly and indirectly impacted by transportation innovation as well as the background of the representatives.

The Secretary reserves the discretion to appoint members to serve on TTAC who were not nominated in response to this notice if necessary to meet Departmental needs in a manner to ensure an appropriate balance of membership.

Issued in Washington, DC on July 14, 2022.
Vincent Gerard White Jr.,
Senior Advisor for Innovation.

[FR Doc. 2022-15460 Filed 7-19-22; 8:45 am]

BILLING CODE 4910-9X-P